DEPARTMENT OF TRANSPORTATION

Pipeline and Hazardous Materials Safety Administration

Office of Hazardous Materials Safety; Notice of Applications for Modification of Special Permit

AGENCY: Pipeline and Hazardous Materials Safety Administration (PHMSA), DOT.

ACTION: List of Applications for Modification of Special Permit.

SUMMARY: In accordance with the procedures governing the application for, and the processing of, special permits from the Department of Transportation's Hazardous Material Regulations (49 CFR Part 107, Subpart B), notice is hereby given that the Office of Hazardous Materials Safety has received the application described herein. This notice is abbreviated to expedite docketing and public notice. Because the sections affected, modes of transportation, and the nature of application have been shown in earlier Federal Register publications, they are not repeated here. Request of modifications of special permits (e.g. to provide for additional hazardous materials, packaging design changes, additional mode of transportation, etc.) are described in footnotes to the application number. Application numbers with the suffix “M” demote a modification request. There applications have been separated from the new application for special permits to facilitate processing.

DATES: Comments must be received on or before October 2, 2008.

Address Comments to: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue Southeast, Washington DC or at http://dms.dot.gov.

This notice of receipt of applications for modification of special permit is published in accordance with Part 107 of the Federal hazardous materials transportation law (49 U.S.C. 5117(b); 49 CFR 1.53(b)).

Issued in Washington, DC, on September 10, 2008.
Delmer F. Billings,
Director, Office of Hazardous Materials, Special Permits and Approvals.

Application number | Docket number | Applicant | Regulation(s) affected | Nature of special permit thereof
Modification Special Permits
11516-M |  | Bridgeview Aerosol, LLC Bridgeview, IL | 49 CFR 173.306(a)(3) | To modify the special permit to authorize an additional Division 2.2 material.
11721-M |  | Coleman Company, Inc. The Maize, KS | 49 CFR 178.65-4(c)(1) | To modify the special permit to authorize an additional Division 2.1 flammable gas.
12412-M | RSPA-00-6827 | Brenntag Southwest Sand Springs, OK | 49 CFR 177.834(h); 172.203(a); 172.302(c) | To modify the special permit to allow residue to remain in hoses while in transportation.
12574-M | RSPA-00-8318 | Weldship Corporation Bethlehem, PA | 49 CFR 172.302(c)(2),(3),(4),(5); Subpart F of Part 180 | To modify the special permit to conform with CGA in that only one pressure relief device is required for certain gases.
14546-M | PHMSA-07-28832 | Linde North America Inc. formerly BOC Gases) Murray Hill, NJ | 49 CFR 180.209 | To modify the special permit to remove the five year visual inspection requirement.
14652-M | PHMSA-08-0043 | Magnum Mud Equipment Co., Inc. Houma, LA | 49 CFR 171.14(d)(4) | To modify the special permit to authorize cargo vessel as an additional mode of transportation.
14754-M |  | Sierra Chemical Company Sparks, NV | 49 CFR 178.3 | To reissue the special permit originally issued on an emergency basis for the transportation in commerce of approximately 72,000 1-gallon polyethylene bottles that are transported under the provisions of DOT-SP 6614 except they have not been marked with the name or symbol of the bottle producer.

[FR Doc. E8-21641 Filed 9-16-08; 8:45 am]

BILLING CODE 4909-60-M